DEPARTMENT OF THE INTERIOR

Bureau of Land Management

[CO-930-1430-ET; COC-3984]

Public Land Order No. 7511; Revocation of Public Land Order No. 4536; CO

AGENCY: Bureau of Land Management, Interior.

ACTION: Public Land Order.

SUMMARY: This order revokes a public land order in its entirety as to 640 acres of public land withdrawn for the Department of Energy as an experimental area. The land will be opened to surface entry, mining, and mineral leasing.

Effective Date: March 21, 2002.

FOR FURTHER INFORMATION CONTACT: Doris E. Chelius, BLM Colorado State Office, 2850 Youngfield Street, Lakewood, Colorado 80215-7076, 303-239-3706.

SUPPLEMENTARY INFORMATION: By virtue of the authority vested in the Secretary of the Interior by Section 204 of the Federal Land Policy and Management Act of 1976, 43 U.S.C. 1714 (1994), it is ordered as follows:

1. Public Land Order No. 4536, which withdrew public land for the Department of Energy (formerly the Atomic Energy Commission) Project Bronco experimental area, is hereby revoked in its entirety as to the following described land:

Sixth Principal Meridian

T.1 N., R. 98 W.,

Sec. 14, SW¼;

Sec. 15, SE¼;

Sec. 22, NE¼;

Sec. 23, NW¼.

The area described contains 640 acres in Rio Blanco County.

2. At 9 a.m. on March 21, 2002, the land described above will be opened to the operation of the public land laws generally, subject to valid existing rights, the provisions of existing withdrawals, other segregations of record, and the requirements of applicable law. All valid applications received at or prior to 9:00 a.m. March 21, 2002, shall be considered as simultaneously filed at that time. Those received thereafter shall be considered in the order of filing.

3. At 9 a.m. on March 21, 2002, the land described above will be opened to location and entry under the United States mining laws and to the operation of the mineral leasing laws, subject to valid existing rights, the provisions of existing withdrawals, other segregations of record, and the requirements of applicable law. Appropriation of any of the land described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: January 30, 2002.
J. Steven Griles,
Deputy Secretary.

[FR Doc. 02-3962 Filed 2-15-02; 8:45 am]

BILLING CODE 4310-JB-P